DEPARTMENT OF TRANSPORTATION

Federal Aviation Administration

14 CFR Part 39

[Docket No. 2002-NM-223-AD; Amendment 39-13699; AD 2004-13-17]

RIN 2120-AA64

Airworthiness Directives; Fokker Model F.28 Mark 0070 and 0100 Series Airplanes

AGENCY: Federal Aviation Administration, DOT.

ACTION: Final rule.

SUMMARY: This amendment supersedes an existing airworthiness directive (AD), applicable to certain Fokker Model F.28 Mark 0070 series airplanes, that currently requires a one-time inspection to detect loose bolts attaching the gustlock counter-bracket to the pulley on the elevator tension regulator (control) assembly, and corrective action if necessary. This AD instead requires a modification of the elevator tension control mechanism. This AD also revises the applicability to include additional airplanes. The actions specified by this AD are intended to prevent restricted elevator movement and consequent reduced controllability of the airplane. This AD is intended to address the identified unsafe condition.

DATES: Effective August 5, 2004.

The incorporation by reference of certain publications listed in the regulations is approved by the Director of the Federal Register as of August 5, 2004.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) by superseding AD 2000-09-11, amendment 39-11720 (65 FR 30529, May 12, 2000), which is applicable to certain Fokker Model F.28 Mark 0070 series airplanes, was published in the Federal Register on April 15, 2004 (69 FR 19950). The proposed AD would require modifying the elevator tension control mechanism and revising the applicability to include additional airplanes.

Comments

We provided the public the opportunity to participate in developing this AD. No comments have been submitted on the proposed AD or on the determination of the cost to the public.

Conclusion

We have carefully reviewed the available data and determined that air safety and the public interest require adopting the AD as proposed.

Cost Impact

This AD affects about 75 airplanes of U.S. registry. The actions take about 1 work hour per airplane, at an average labor rate of $65 per work hour. Required parts will be provided to operators at no cost. Based on these figures, the cost impact of the AD on U.S. operators is estimated to be $4,875, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11720 (65 FR 30529, May 12, 2000), and by adding a new airworthiness directive (AD), amendment 39-13699, to read as follows:

2004-13-17 Fokker Services B.V.: Amendment 39-13699. Docket 2002-NM-223-AD. Supersedes AD 2000-09-11, Amendment 39-11720.

Applicability: Model F.28 Mark 0070 and 0100 series airplanes, certificated in any category, equipped with elevator tension control assemblies having any part number (P/N) D78179-405, -407, -409, -411, or -413.

Compliance: Required as indicated, unless accomplished previously.

To prevent restricted elevator movement and consequent reduced controllability of the airplane, accomplish the following:

Modification

(a) Within 18 months after the effective date of this AD, modify the elevator tension control mechanism in accordance with the Accomplishment Instructions of Fokker Service Bulletin SBF100-27-081, dated January 1, 2002; or Fokker Component Service Bulletin D78179-27-017, dated January 1, 2002.

Parts Installation

(b) As of the effective date of this AD, no person may install an elevator tension control assembly on any airplane, unless the assembly has been modified and reidentified in accordance with the requirements of this AD.

Alternative Methods of Compliance

(c) In accordance with 14 CFR 39.19, the Manager, International Branch, ANM-116, FAA, Transport Airplane Directorate, is authorized to approve alternative methods of compliance for this AD.

Incorporation by Reference

(d) The actions must be done in accordance with Fokker Service Bulletin SBF100-27-081, dated January 1, 2002; or Fokker Component Service Bulletin D78179-27-017, dated January 1, 2002. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in Dutch airworthiness directive 2002-058, dated April 29, 2002.

Effective Date

(e) This amendment becomes effective on August 5, 2004.

Issued in Renton, Washington, on June 17, 2004.
Ali Bahrami,
Acting Manager, Transport Airplane Directorate, Aircraft Certification Service.

[FR Doc. 04-14576 Filed 6-30-04; 8:45 am]

BILLING CODE 4910-13-P